DEPARTMENT OF AGRICULTURE

Forest Service

First Phase of the Forest Planning Process for the Bio-Region

AGENCY: U.S.D.A. Forest Service, Pacific Southwest Region, California.

ACTION: Notice of Intent to initiating the first phase of the forest planning process for the Bio-Region.

SUMMARY: Come gather 'round people

Wherever you roam

And admit that the waters

Around you have grown

And accept it that soon

You'll be drenched to the bone

If your time to you is worth savin'

Then you better start swimmin' or you'll sink like a stone

For the times, they are a-changin'.

Bob Dylan, The Times They Are A-changin' © 1963, 1964, 1991, 1992.

The Pacific Southwest Region is initiating the first phase of the forest planning process pursuant to the 2012 Forest Planning Rule which will describe the strategic direction for management of forest resources for the next ten to fifteen years. This notice communicates that the informal phase of the Bio-Regional Assessment has begun.

DATES: The Bio-Regional Assessment Report will be completed in July 2013. The Forest-level Assessment Reports for the three early adopter Forests which will tier from the Bio-Regional Assessment Report and will be completed in December, 2013. The formal revision process will begin in 2014.

ADDRESSES: U.S. Forest Service, Pacific Southwest Region 5, Attn.: Ecosystem Planning, 1323 Club Drive, Vallejo, California, 94592.

FOR FURTHER INFORMATION CONTACT: Ronald L. Pugh, Deputy Director, Ecosystem Planning, 707-562-8951. Individuals who use telecommunication devices for the deaf (TDD) may call the Federal Information Relay Service (FIRS) at 1-800-877-8339 between 8 a.m. and 8 p.m., Eastern Time, Monday through Friday.

SUPPLEMENTARY INFORMATION:

Purpose and Need for Action

The Pacific Southwest Region of the United States, United States Department of Agriculture, along with the Sierra, Inyo, and Sequoia National Forests, are initiating the first phase of the forest planning process pursuant to the 2012 Forest Planning Rule. Forest plans describe the strategic direction for management of forest resources for the next ten to fifteen years, and are adaptive and amendable as conditions change over time. This initial phase includes the assessment of resource condition and trend at the bioregional and forest scales. Although not required by the new Planning Rule, the Region will complete a Bio-Regional Assessment to help provide a landscape scale perspective to the required forest assessments. An assessment is the first step in revising forest plans.

Under the 2012 Planning Rule, the planning process is continuous and includes three stages extending over the life of the Revised Forest Plan. The first stage is the assessment of resources, and occurs in the first year. The second stage is the formal process required by the National Environment Policy Act (NEPA) and includes the preparation of Draft Environmental Impact Statements and Revised Forest Plan for public review and comment, and the preparation of the Final Environmental Impact Statement and Revised Forest Plan. We expect the second stage to take two years. The third stage of the process is monitoring and feedback, which is ongoing over the life of the revised forest plans.

We are committed to collaboration and to strengthening public engagement throughout the process. Collaboration and communication plans are being developed with the help of stakeholders at the regional and forest levels. Each plan is unique to the needs of the people and communities being served. The goal is not complete agreement; we seek common context and understanding.

Regional and forest specialists have begun collecting information to describe existing resource conditions and trends. The Bio-Regional Assessment Report will be completed in July 2013.

Responsible Official

Regional Forester Randy Moore, Pacific Southwest Region, U.S.D.A. Forest Service.

Nature of Decision To Be Made

Region-wide conditions and trends will be addressed in the Bio-Regional Assessment to help provide a landscape scale context for the Sierra Nevada, southern Cascades, and the Modoc Plateau. The bio-regional Assessment Report will be completed in July 2013.

Scoping Process

At this phase of forest plan revision there is no formal Scoping Process; however, we are committed to collaboration and to strengthening public engagement throughout the process. A collaboration and communication plan that was developed with the help of stakeholders is in place.

For information on current events, meetings, workshops, important dates and how to participate in forest plan revision, visit the Pacific Southwest Region 5 Web site: http://www.fs.usda.gov/r5/; and Our Forest Place: http://ourforestplace.ning.com/.

Dated: January 9, 2013.
Randy Moore,
Regional Forester.

[FR Doc. 2013-01254 Filed 1-23-13; 8:45 am]

BILLING CODE 3410-11-M